DEPARTMENT OF THE INTERIOR

Fish and Wildlife Service

[FWS-R9-IA-2012-N131; 000-123D0102DM-DS61200000]

U.S. Coral Reef Task Force Public Meeting and Public Comment

AGENCY: Fish and Wildlife Service, Interior.

ACTION: Notice of public meeting; request for public comment.

SUMMARY: We, the U.S. Fish and Wildlife Service (Service), announce a public meeting of the U.S. Coral Reef Task Force (USCRTF) and a request for written comments. This meeting, the 28th biannual meeting of the USCRTF, provides a forum for coordinated planning and action among Federal agencies, State and territorial governments, and nongovernmental partners.

DATES: Meeting Dates: August 20, 2012, through August 23, 2012.

Please be aware of the following dates:

Advance Public Comments: Submit to Liza Johnson at the email, fax, or mailing address listed below by July 22, 2012.

Registration To Attend the Meeting: Attendees can register online prior to the start of the meeting, or on site at the registration desk. The following events will take place on the following dates, with registration details to be announced on site:

• Steering Committee: Monday, August 20, 2012.

• Field site visits: Monday, August 20, 2012.

• Workshop: Tuesday, August 21, 2012.

• Business Meeting: Wednesday, August 22, 2012, and Thursday, August 23, 2012.

Public Comments Given at the Meeting: Submit in writing to Liza Johnson by email, fax, or mail (see FOR FURTHER INFORMATION CONTACT) by September 24, 2012.

ADDRESSES: Lee Auditorium, Pago Pago, American Samoa (phone number is 684-633-5155).

FOR FURTHER INFORMATION CONTACT: Liza Johnson, DOI USCRTF Steering Committee Point of Contact, U.S. Department of the Interior, MS-3530-MIB, 1849 C Street NW., Washington, DC 20240 (phone: 202-208-1378; fax: 202-208-4867; email: Liza_M_Johnson@ios.doi.gov); or Silmarie Padrón, FWS Liaison, USCRTF, U.S. Fish and Wildlife Service, 4401 N. Fairfax Drive, Room 750, Arlington, VA 22203 (phone: 703-358-2150; fax: 703-358-2232; Silmarie_Padron@fws.gov); or visit the USCRTF Web site at www.coralreef.gov.

SUPPLEMENTARY INFORMATION: Established by Presidential Executive Order 13089 in 1998, the USCRTF has a mission to lead, coordinate, and strengthen U.S. government actions to better preserve and protect coral reef ecosystems. The Departments of Commerce and the Interior co-chair the USCRTF, whose members include leaders of 12 Federal agencies, 2 U.S. States and 5 U.S. territories, and 3 freely associated States. For more information about the meetings, draft agendas, and how to register, go to www.coralreef.gov. A written summary of the meeting will be posted on the Web site within 2 months after the meeting.

Public Comments

Comments may address the meeting, the role of the USCRTF, or general coral reef conservation issues.

Public Availability of Comments

Before including your address, phone number, email address, or other personal identifying information in your comment, you should be aware that your entire comment—including your personal identifying information—may be made publicly available at any time. While you can ask us in your comment to withhold your personal identifying information from public review, we cannot guarantee that we will be able to do so.

Eileen Sobeck,
Deputy Assistant Secretary for Fish and Wildlife and Parks, Department of the Interior.

[FR Doc. 2012-16472 Filed 7-3-12; 8:45 am]

BILLING CODE 4310-55-P